FEDERAL MARITIME COMMISSION

Ocean Transportation Intermediary License; Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License no. | Name/Address | Date reissued
018784N | Champion Cargo Services, LLC, 9523 Jamacha Blvd., Spring Valley, CA 91977 | October 15, 2008.
020535N | Destiny Global Export Corp., 12 Kingsberry Dr., Somerset, NJ 08873 | November 13, 2008.
016320N | Eurotrans Systems, Inc., 299 Broadway, Suite 1815, New York, NY 10007 | December 12, 2008.
017234N | Ever-Swift Worldwide Inc., Cargo Bldg. 151, Ste. 377, Jamaica, NY 11430 | November 25, 2008.
000010F | Footner and Company, Inc., 6610-B Tributary Street, Baltimore, MD 21124 | October 8, 2008.
002541F | Kog Transport, Inc., 299 Broadway, Ste. 1815, New York, NY 10007 | December 12, 2008.
003490N | Rose International, Inc., dba Rose Maritime Container Line, 410 Ogden Avenue, Jersey City, NJ 07307 | October 30, 2008.
019149F | Uniwide Cargomovers & Travel, Inc., 1232 W. 223rd Street, Torrance, FL 90502 | November 8, 2008.

Sandra L. Kusumoto,
Director, Bureau of Certification and Licensing.

[FR Doc. E9-2367 Filed 2-3-09; 8:45 am]

BILLING CODE 6730-01-P